DEPARTMENT OF COMMERCE

International Trade Administration

[C-201-846]

Agreement Suspending the Countervailing Duty Investigation on Sugar From Mexico; Preliminary Results of the 2023 Administrative Review

AGENCY: Enforcement and Compliance, International Trade Administration, Department of Commerce.

SUMMARY: The U.S. Department of Commerce (Commerce) preliminarily determines that the signatory, the Government of Mexico (GOM), and the respondent companies selected for individual examination, respectively, Azucarera San Jose De Abajo S.A. and Santa Rosalia de la Chontalpa, SA de CV, were in compliance with the Agreement Suspending the Countervailing Duty Investigation on Sugar from Mexico, as amended (CVD Agreement) during the period of review (POR) January 1, 2023, through December 31, 2023. Commerce also preliminarily determines that the CVD Agreement met the applicable statutory requirements during the POR.

DATES: Applicable April 11, 2025.

FOR FURTHER INFORMATION CONTACT: Jill Buckles or Samantha Fino, Enforcement and Compliance, International Trade Administration, U.S. Department of Commerce, 1401 Constitution Avenue NW, Washington, DC 20230, telephone: (202) 482-6230 or (202) 482-2861, respectively.

SUPPLEMENTARY INFORMATION:

Background

Commerce and the GOM signed the CVD Agreement under section 704(c) of the Tariff Act of 1930, as amended (the Act), which suspended the underlying countervailing duty investigation on sugar from Mexico, on December 19, 2014, and which was subsequently amended on January 15, 2020.¹

¹ See Sugar from Mexico: Suspension of Countervailing Duty Investigation, 79 FR 78044 (December 29, 2014); see also Sugar from Mexico: Amendment to the Agreement Suspending the Countervailing Duty Investigation, 85 FR 3613 (January 22, 2020) (collectively, CVD Agreement).

On December 26, 2023, the American Sugar Coalition and its members (the petitioners) ² filed a timely request for an administrative review of the CVD Agreement.³ On February 8, 2024, Commerce initiated an administrative review for the period January 1, 2023, through December 31, 2023.⁴

² The members of the American Sugar Coalition are: American Sugar Cane League; American Sugarbeet Growers Association; American Sugar Refining, Inc.; Florida Sugar Cane League; Rio Grande Valley Sugar Growers, Inc.; Sugar Cane Growers Cooperative of Florida; and the United States Beet Sugar Association.

³ See Petitioners' Letter, “Request for Administrative Review,” dated December 26, 2023.

⁴ See Initiation of Antidumping and Countervailing Duty Administrative Reviews, 89 FR 8641 (February 8, 2024).

On April 4, 2024, Commerce selected two companies as mandatory respondents, listed in alphabetic order: Azucarera San Jose De Abajo S.A. and Santa Rosalia de la Chontalpa, SA de CV.⁵ In addition, the review covered the GOM, which is the signatory to the CVD Agreement.

⁵ See Memorandum, “Respondent Selection,” dated April 4, 2024.

Scope of the CVD Agreement

The product covered by this CVD Agreement is raw and refined sugar of all polarimeter readings derived from sugar cane or sugar beets. Merchandise covered by this CVD Agreement is typically imported under the following headings of the HTSUS: 1701.12.1000, 1701.12.5000, 1701.13.1000, 1701.13.5000, 1701.14.1020, 1701.14.1040, 1701.14.5000, 1701.91.1000, 1701.91.3000, 1701.99.1015, 1701.99.1017, 1701.99.1025, 1701.99.1050, 1701.99.5015, 1701.99.5017, 1701.99.5025, 1701.99.5050, and 1702.90.4000.⁶ The tariff classification is provided for convenience and customs purposes; however, the written description of the scope of this CVD Agreement is dispositive.⁷

⁶ Prior to July 1, 2016, merchandise covered by the CVD Agreement was also classified in the HTSUS under subheading 1701.99.1010. Prior to January 1, 2020, merchandise covered by the CVD Agreement was also classified in the HTSUS under subheadings 1701.14.1000 and 1701.99.5010.

⁷ For a complete description of the Scope of the CVD Agreement, see Memorandum, “Decision Memorandum for the Preliminary Results of the 2023 Administrative Review: Sugar from Mexico,” dated concurrently with, and hereby adopted by, this notice (Preliminary Decision Memorandum).

Methodology and Preliminary Results

Commerce has conducted this review in accordance with section 751(a)(1)(C) of the Act, which specifies that Commerce shall “review the current status of, and compliance with, any agreement by reason of which an investigation was suspended.” Pursuant to the CVD Agreement, the GOM agrees that subject merchandise is subject to export limits.⁸ The GOM also agrees to other conditions including limits on exports of Refined Sugar ⁹ and restrictions on shipping patterns for exports.¹⁰ The CVD Agreement also requires the GOM to issue contract-specific export licenses,¹¹ submit compliance monitoring reports to Commerce,¹² and institute penalties for non-compliance with certain key terms of the CVD Agreement and the companion Agreement Suspending the Antidumping Duty Investigation on Sugar from Mexico, as amended.¹³

⁸ See CVD Agreement at Section V.

⁹ “Refined Sugar” is defined in Section II.L of the CVD Agreement.

¹⁰ Id. at Section V.C.

¹¹ Id. at Section VI and Appendix I.

¹² Id. at Section VIII.B.1 and Appendix II.

¹³ Id. at Section VIII.B.4; see also See Sugar from Mexico: Suspension of Antidumping Investigation, 79 FR 78039 (December 29, 2014); and Sugar from Mexico: Amendment to the Agreement Suspending the Antidumping Duty Investigation, 85 FR 3620 (January 22, 2020).

After reviewing the information received from the GOM and respondent companies in their questionnaire and supplemental questionnaire responses, we preliminarily determine that the GOM and respondent companies adhered to the terms of the CVD Agreement during the POR and that the CVD Agreement is functioning as intended. Further, we preliminarily determine that the CVD Agreement continued to meet the statutory requirements under sections 704(c) and (d) of the Act during the POR.

For a full description of the methodology underlying our conclusions, see the Preliminary Decision Memorandum. A list of the topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Public Comment

Pursuant to 19 CFR 351.309(c), interested parties may submit case briefs to Commerce no later than 21 days from the publication of these preliminary results in the Federal Register. Rebuttal briefs, limited to issues raised in the case briefs, may be filed not later than five days after the date for filing case briefs.¹⁴ Interested parties who submit case briefs or rebuttal briefs in this proceeding must submit: (1) a table of contents listing each issue; and (2) a table of authorities.¹⁵ As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their executive summary of each issue to no more than 450 words, not including citations. We intend to use the executive summaries as the basis of the comment summaries included in the Issues and Decision Memorandum that will accompany the final results in this administrative review. We request that interested parties include footnotes for relevant citations in the executive summary of each issue. Note that Commerce has amended certain of its requirements pertaining to the service of documents in 19 CFR 351.303(f).¹⁷

¹⁴ See 19 CFR 351.309(d); see also Administrative Protective Order, Service, and Other Procedures in Antidumping and Countervailing Duty Proceedings, 88 FR 67069, 67077 (September 29, 2023) (APO and Service Final Rule).

¹⁵ See 19 351.309(c)(2) and (d)(2).

¹⁶ We use the term “issue” here to describe an argument that Commerce would normally address in a comment of the Issues and Decision Memorandum.

¹⁷ See APO and Service Final Rule.

Pursuant to 19 CFR 351.310(c), interested parties who wish to request a hearing must submit a written request to the Assistant Secretary for Enforcement and Compliance, filed electronically via ACCESS. Requests should contain: (1) the party's name, address, and telephone number; (2) the number of participants and whether any participant is a foreign national; and (3) a list of issues to be discussed. Issues raised in the hearing will be limited to those raised in the respective case briefs. An electronically filed hearing request must be received successfully in its entirety by Commerce's electronic records system, ACCESS, by 5 p.m. Eastern Time within 30 days after the date of publication of this notice.

Commerce intends to issue the final results of this administrative review, including the results of its analysis of the issues raised in any written briefs, not later than 120 days after the date of publication of this notice, pursuant to section 751(a)(3)(A) of the Act, unless extended.

Notification to Interested Parties

We are issuing and publishing these results in accordance with sections 751(a)(1) and 777(i)(1) of the Act.

Dated: April 7, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Agreement

IV. Preliminary Results of Review

V. Recommendation

[FR Doc. 2025-06231 Filed 4-10-25; 8:45 am]

BILLING CODE 3510-DS-P